DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. Chapter 35). To request a copy of the clearance requests submitted to OMB for review, call the HRSA Reports Clearance Office on (301)-443-1129.

The following request has been submitted to the Office of Management and Budget for review under the Paperwork Reduction Act of 1995:

Proposed Project: Ryan White CARE Act Title I Minority AIDS Initiative (MAI) Report: NEW (Title I MAI Report)

The HRSA HIV/AIDS Bureau (HAB) administers the Title I CARE Act Program (codified under Title XXVI of the Public Health Service Act). The Title I Minority AIDS Initiative (MAI) supplement is a component of the CARE Act Title I Program to “address substantial need for care and support services for minority populations in eligible metropolitan areas (EMA).” The overall goal of the MAI is to improve HIV/AIDS-related health outcomes for communities of color by allowing communities to: (1) Expand local service capacity primarily through community-based organizations serving racial and ethnic minorities; (2) improve service delivery; and (3) support the development of new and innovative programs designed to reduce HIV/AIDS-related health disparities.

The Title I MAI Report is designed to collect performance data from Title I MAI grantees, and has the following two components: (1) The Title I MAI Plan (Plan) and (2) the Title I MAI Year-End Annual Report (Report). The Plan and Report components will be linked to minimize the reporting burden, and designed to include check box responses, fields for reporting budget, expenditure and client data, and open-ended text boxes for describing client or service-level outcomes. Together, they will collect information from grantees on MAI-funded services, the number and demographics of clients served, and client-level outcomes. This information is needed to monitor and assess: (1) Increases and changes in the type and amount of HIV/AIDS health care and related services being provided to each disproportionately impacted community of color; (2) increases in the number of persons receiving HIV/AIDS services within each racial and ethnic community; and (3) the impact of Title I MAI-funded services in terms of client-level and service-level health outcomes. This information also will be used to plan new technical assistance and capacity development activities, and inform the HRSA HIV/AIDS Bureau (HAB) policy and program management functions.

The Title I MAI Report form and instructions will be available for all grantees to download from the HRSA/HAB Web site. All grantees will submit completed data forms through a link on the HRSA/HAB Web site. Grantees may submit a hard copy form to the HRSA Call Center. The Title I MAI Report will be designed to include check box responses, numeric responses, and open-ended questions. All Title I grantees receiving MAI funds from HAB will be required to submit their service providers' data in an aggregate form by service category utilizing one Title I MAI Report.

The estimated response burden for grantees is as follows:

Form | Estimated number of respondents | Responses per respondent | Hours per response | Total burden hours
Title I MAI Report | 51 | 2 | 6 | 612

Written comments and recommendations concerning the proposed information collection should be sent within 30 days of this notice to: John Kraemer, Human Resources and Housing Branch, Office of Management and Budget, New Executive Office Building, Room 10235, Washington, DC 20503.

Dated: October 16, 2006.
Cheryl R. Dammons,
Director, Division of Policy Review and Coordination.

[FR Doc. E6-17667 Filed 10-20-06; 8:45 am]

BILLING CODE 4165-15-P